NUCLEAR REGULATORY COMMISSION

[NRC-2025-0001]

Sunshine Act Meetings

TIME AND DATE: Weeks of September 22, 29, and October 6, 13, 20, 27, 2025. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please contact the Reasonable Accommodations Resource by email at Reasonable_Accommodations.Resource@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of September 22, 2025

There are no meetings scheduled for the week of September 22, 2025.

Week of September 29, 2025—Tentative

There are no meetings scheduled for the week of September 29, 2025.

Week of October 6, 2025—Tentative

Tuesday, October 7, 2025

10:00 a.m. Meeting With the Organization of Agreement States and the Conference of Radiation Control Program Directors (Public Meeting (Contact: Jeffrey Lynch: 301-415-5041)

Additional Information: The meeting will be held in the Commissioners' Hearing Room, 11555 Rockville Pike, Rockville, Maryland. The public is invited to attend the Commission's meeting in person or watch live via webcast at the Web address—

https://video.nrc.gov/. If attending in person, please contact the staff member listed above at least 24 hours in advance of the meeting to ensure timely processing into the building.

Week of October 13, 2025—Tentative

There are no meetings scheduled for the week of October 13, 2025.

Week of October 20, 2025—Tentative

There are no meetings scheduled for the week of October 20, 2025.

Week of October 27, 2025—Tentative

There are no meetings scheduled for the week of October 27, 2025.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: September 17, 2025.
For the Nuclear Regulatory Commission.
Wesley W. Held,
Policy Coordinator, Office of the Secretary.

[FR Doc. 2025-18177 Filed 9-17-25; 11:15 am]

BILLING CODE 7590-01-P